DEPARTMENT OF THE INTERIOR

National Park Service

[NPS-PWR-PWRO-0621-7758; 2310-0082-422]

Drakes Bay Oyster Company Special-Use Permit, Draft Environmental Impact Statement, Point Reyes National Seashore, CA

AGENCY: National Park Service, Interior.

ACTION: Notice of availability.

SUMMARY: The National Park Service announces the availability of a draft environmental impact statement to consider the Drakes Bay Oyster Company Special-use permit in Drakes Estero, Point Reyes National Seashore, California.

DATES: We, the National Park Service, will accept all comments on the draft environmental impact statement that are submitted or postmarked no later than 60 days after the date the Environmental Protection Agency publishes its notice of filing of the DEIS in the Federal Register. We intend to hold public meetings in several San Francisco Bay Area locations during the public review period. We will announce details regarding the exact times and locations of these meetings on the Point Reyes National Seashore Web site, at http://parkplanning.nps.gov/pore (click on the Drakes Bay Oyster Company Special-use permit EIS link), and through local and regional media at least 15 days in advance of the meetings.

ADDRESSES: Information will be available for public review and comment online at http://parkplanning.nps.gov/pore (click on the Drakes Bay Oyster Company Special-use permit EIS link) and in the office of the Superintendent, Point Reyes National Seashore, 1 Bear Valley Road, Point Reyes Station, CA 94956, (415) 464-5162.

Submit comments on the draft environmental impact statement by any one of the following methods:

• Internet: We encourage you to comment via the Internet at NPS Web site in the ADDRESSES section.

• Mail: Mail comments to Point Reyes National Seashore, ATTN: DBOC SUP DEIS, 1 Bear Valley Road, Point Reyes Station, CA 94956.

• Hand delivery: Deliver comments to the Office of the Superintendent at Point Reyes National Seashore, 1 Bear Valley Road, Point Reyes Station, CA 94956.

• Other written: We will accept written comments at the public meetings.

We will not accept comments by fax, e-mail, or in any other way than those specified above. We will not accept bulk comments in any format (hard copy or electronic) submitted on behalf of others.

Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Melanie Gunn, Outreach Coordinator, Point Reyes National Seashore, 1 Bear Valley Road, Point Reyes Station, CA 94956, (415) 464-5131. More information regarding this EIS is also available at http://www.nps.gov/pore/parkmgmt/planning_dboc_sup.htm.

SUPPLEMENTARY INFORMATION: Under Section 124 of Public Law 111-88, the Secretary has the authority to issue a special-use permit (SUP) for 10 years to Drakes Bay Oyster Company (DBOC) for its shellfish operation, which consists of commercial production, harvesting, processing, and sale of shellfish at Point Reyes National Seashore. The existing reservation of use and occupancy (RUO) and associated SUP held by the Company will expire on November 30, 2012, and the Company has requested a new permit.

Although the Secretary's authority under Section 124 is “notwithstanding any other provision of law,” it has been determined that it would help inform the decision-making process to prepare an EIS and otherwise follow National Environmental Policy Act (NEPA) procedures. The purpose of the document is to use the NEPA process on behalf of the Secretary to engage the public and evaluate the effects of issuing a SUP for the commercial shellfish operation. The results of the NEPA process will be used to inform the decision of whether a new SUP should be issued to Drakes Bay Oyster Company for 10 years.

Project Objectives

• Manage natural and cultural resources to support their protection, restoration, and preservation.

• Manage wilderness and potential wilderness areas to preserve the character and qualities for which they were designated.

• Provide opportunities for visitor use and enjoyment of park resources.

The draft environmental impact statement considers four alternatives.

Alternative A. No New Special-Use Permit—Conversion to Wilderness (No Action). This alternative considers the expiration of existing RUO and SUP, and subsequent conversion of the area to Wilderness consistent with Public Law 94-567. The existing SUP and RUO expire on November 30, 2012. The Secretary would not exercise the discretion granted to him under Section 124 of Public Law 111-88 to issue a new 10-year SUP. Upon removal of the non-conforming structures and uses from Drakes Estero, NPS would convert the area from potential wilderness to wilderness.

Alternative B. Issue New Special-Use Permit—Existing Onshore Facilities and Infrastructure and Offshore Operations Would Be Allowed for a Period of 10 Years. This alternative considers a level of use consistent with conditions that were present in fall 2010 when NPS initiated evaluation under the environmental impact statement. The existing SUP and RUO expire on November 30, 2012. The Secretary would exercise the discretion granted to him under Section 124 to issue to DBOC a new 10-year SUP, expiring November 30, 2022.

Alternative C. Issue new special-use permit—onshore facilities and infrastructure and offshore operations present in 2008 would be allowed for a period of 10 years. This alternative considers a level of use that is consistent with the conditions and operations that existed when the current SUP was signed in April 2008. The existing SUP and RUO expire on November 30, 2012. The Secretary would exercise the discretion granted to him under Section 124 to issue to DBOC a new 10-year SUP, expiring November 30, 2022.

Alternative D. Issue New Special-Use Permit—Expanded Onshore Development and Offshore Operations Would Be Allowed for a Period of 10 Years. This alternative considers expansion of operations and development of new infrastructure consistent with the permittee's requests submitted for consideration as part of this EIS process. The existing SUP and RUO would expire on November 30, 2012. The Secretary would exercise the discretion granted to him under Section 124 to issue a new 10-year special use permit to DBOC, expiring November 30, 2022.

George J. Turnbull,
Acting Regional Director, Pacific West Region.

[FR Doc. 2011-24658 Filed 9-23-11; 8:45 am]

BILLING CODE 4312-FW-P